DEPARTMENT OF JUSTICE

Office of Justice Programs

[OJP (OJJDP) Docket No. 1394]

Office of Juvenile Justice and Delinquency Prevention: Meeting of the Juvenile Justice Advisory Committee

AGENCY: Office of Juvenile Justice and Delinquency Prevention (OJJDP), Office of Justice Programs, Justice.

ACTION: Notice of meeting.

SUMMARY: The Office of Juvenile Justice and Delinquency Prevention is announcing a meeting of the Juvenile Justice Advisory Committee in Point Clear, Alabama, from January 12-14, 2004, at the meeting times and location noted below.

DATES: The schedule of events is as follows:

Monday, January 12, 2004

9 a.m.-5 p.m. Juvenile Justice Advisory Committee Training (Closed Session)

Tuesday, January 13, 2004

9 a.m.-12 p.m. Juvenile Justice Advisory Committee Training (Closed Session)

12 p.m.-1:30 p.m. Informal Personnel Discussion (Closed Session)

1:30 p.m.-3 p.m. Organizational Discussion (Open Session)

3 p.m.-5 p.m. Working Group—Subcommittee Organization (Closed Session)

Wednesday, January 14, 2004

9 a.m.-10:15 a.m. Subcommittee Reporting (Open Session)

10:30 a.m.-12 p.m. Closing Remarks (Open Session)

ADDRESSES: The meeting will take place at the Grand Hotel Marriott, One Grand Boulevard, Point Clear, Alabama, 36564.

FOR FURTHER INFORMATION CONTACT: Timothy Wight, Designated Federal Official, OJJDP, at 202-514-2190 (This is not a toll-free number.)

SUPPLEMENTARY INFORMATION: The Juvenile Justice Advisory Committee, established pursuant to section 3(2)A of the Federal Advisory Committee Act (5 U.S.C. App. 2), will meet to carry out its advisory functions under section 223(f)(2)(C-E) of the Juvenile Justice and Delinquency Prevention Act of 2002. This is an administrative and organizational meeting of the Committee wherein the members will be addressed by the Administrator of OJJDP, receive training concerning the provisions of the Federal Advisory Committee Act, elect a Committee chair and vice-chair, and organize into sub-committees.

Members of the public who wish to attend the open sessions of the meeting should notify the Juvenile Justice Resource Center at 301-519-5790 (Karen Goldstein) or 301-519-5245 (Carol Sadler)by 5 p.m., ET, on January 5, 2004. Notification may also be sent to the following e-mail address: JJAC@jjrc.org. Please indicate your name, address, phone number, and which open sessions you are expecting to attend.

J. Robert Flores,
Administrator, Office of Juvenile Justice and Delinquency Prevention.

[FR Doc. 03-31552 Filed 12-22-03; 8:45 am]

BILLING CODE 4410-18-P